DEPARTMENT OF AGRICULTURE

Office of the Chief Economist; Federal Advisory Committee for the Expert Review of Synthesis and Assessment; Product 4.3

AGENCY: Office of the Chief Economist, U.S. Department of Agriculture.

ACTION: Notice of Meeting.

SUMMARY: The Federal Advisory Committee for the Expert Review of Synthesis and Assessment Product 4.3 (CERSAP) will be meeting in Washington, DC. The U.S. Department of Agriculture (USDA) is the lead agency for Climate Change Science Program Synthesis and Assessment Product 4.3 (SAP 4.3) titled, The Effects of Climate Change on Agriculture, Land Resources, Water Resources, and Biodiversity. CERSAP will provide advice to the Secretary of Agriculture on the conduct of this study.

DATES: CERSAP will convene from 9 a.m. Tuesday February 5, 2008 through 5 p.m. Wednesday February 6, 2008.

ADDRESSES: CERSAP will meet in Room 108 of the USDA Whitten Building in Washington, DC. The USDA Whitten Building is located at 12th Street, SW., and Jefferson Drive, and is accessible via the Smithsonian Metro stop. Please call Shirley Brown at 202-720-4164 upon entry for a mandatory escort. A photo ID is required. Written materials for CERSAP's consideration prior to the meeting must be received by Dr. Margaret Walsh no later than Monday January 28, 2008. Written materials may be sent to Dr. Walsh at mwalsh@oce.usda.gov.

FOR FURTHER INFORMATION CONTACT: Dr. Margaret Walsh, Global Change Program Office, U.S. Department of Agriculture, 202-720-9978 or mwalsh@oce.usda.gov.

SUPPLEMENTARY INFORMATION: This is a public meeting. Written materials for CERSAP's consideration prior to the meeting must be received by Dr. Margaret Walsh no later than Monday January 28, 2008. Individuals may make oral presentations at the meeting venue. Those making oral presentations should register in person at the meeting site and must bring with them 20 copies of any materials they would like distributed. Photocopy facilities are not available on site. More information on CERSAP and on SAP 4.3 may be found online at http://www.usda.gov/oce/global_change/index.htm, http://www.climatescience.gov/Library/sap/sap4-3/default.php, and http://www.sap43.ucar.edu/.

Draft Meeting Agenda

Tuesday February 5, 2008

A. Welcome and Introduction.

B. Update on SAP 4.3.

C. Public Comment.

D. Discussion of SAP 4.3.

Wednesday February 6, 2008

A. Welcome.

B. Public Comment.

C. Discussion of SAP 4.3.

D. Adjourn.

Time will be reserved for public comment on each day. Individual presentations will be limited to five minutes. Updates to the meeting agenda can be found online at the URLs listed above.

For information on facilities or services for individuals with disabilities, or to request special assistance at the meeting, please contact Dr. Margaret Walsh. USDA prohibits discrimination on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Joseph Glauber,
Acting Chief Economist.

[FR Doc. 08-189 Filed 1-17-08; 8:45 am]

BILLING CODE 3410-38-P